DEPARTMENT OF HEALTH AND HUMAN SERVICES

Administration for Children and Families

Proposed Information Collection Activity; Comment Request

Proposed Projects

Title: HHS/ACF Rural Welfare-to-Work Strategies Demonstration Evaluation Project 30-Month Survey

OMB No.: New collection

Description: The Rural Welfare-to-Work Strategies Demonstration Evaluation Project, which was developed and funded by the Administration for Children and Families (ACF) of the U.S. Department of Health and Human Services (HHS), is a national evaluation to determine the benefits and cost-effectiveness of methods designed to aid current or former Temporary Assistance for Needy Families (TANF) recipients or other low-income families as the transition from welfare to the employment arena. This evaluation addresses four research questions:

• What are the issues and challenges associated with operating the new welfare-to-work services and policy approaches being studied?

• How effective are the welfare-to-work programs under the project in increasing employment and earnings and in improving other measures?

• What are the net costs of the welfare-to-work programs, and do the programs' benefits outweigh the costs?

• What approaches should policymakers and program managers consider in designing strategies to improve the efficacy of welfare-to-work strategies for families in rural areas?

The evaluation employs a multi-pronged approach to answer the research questions. These approaches include: (1) an impact study, which will examine the differences between control and intervention groups with respect to factors such as employment rates, earnings, and welfare receipt; (2) a cost-benefit analysis, which will calculate estimates of net program cost-effectiveness; and (3) an in-depth process study, which will identify implemetation issues and challenges, examine program costs, and provide details on how programs achieve observed results. The data collected during the conduct of this study will be used for the following purposes:

• To study rural welfare-to-work programs' effects on factors such as employment, earnings, educational attainment and family composition;

• To collect data on a wider range of outcome measures—such as job acquisition, retention and advancement, job quality, educational attainment, and employment barriers—than is available through welfare or unemployment insurance records, in order to understand how individuals are being affected by the demonstrated programs;

• To support research on the implementation of welfare-to-work programs across sites;

• To obtain program participation and service use information important to the evaluation's cost-benefit component; and

• To obtain contact information for a future follow-up survey that will be important to achieving high response rates for that survey.

Respondents: The respondents of the 30-month follow-up survey are current and former TANF recipients, or individuals in families at risk of needing TANF benefits (working poor, hard-to-employ) from the three states participating in the evaluation (Illinois, Nebraska, and Tennessee). The survey will be administered to both intervention and control groups in each participating site. The estimated sample size for the survey is 3,400 individuals, including projected samples of 2,200 in Tennessee, and 600 each in Illinois and Nebraska. The survey will be conducted primarily by telephone, with field interviews conducted with those individuals who cannot be interviewed by telephone. OMB already approved the process evaluation component and 18-month follow-up survey for this study.

Annual Burden Estimates
Instrument | Number of respondents | Number of responses per respondent | Average burden hours per response | Total burden hours
30-month follow-up survey | 686 | 1 | 30 minutes or .5 hours | 343

Estimated Total Annual Burden Hours: 343

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: rsargis@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: August 11, 2003.
Robert Sargis,
Reports Clearance Officer.

[FR Doc. 03-20884 Filed 8-14-03; 8:45 am]

BILLING CODE 4184-01-M